DEPARTMENT OF TRANSPORTATION

Federal Aviation Administration

Controller Pilot Data Link Communications Industry Day

Pursuant to section 10(a)(2) of the Federal Advisory Committee Act (P.L. 92-463), (5 U.S.C., Appendix 2), notice is hereby given of an Industry Day to discuss Controller Pilot Data Link Communications (CPDLC), to be held February 29, 2000 from 8:30 a.m. to 3:30 p.m., at the Federal Aviation Administration, 800 Independence Avenue, SW., Washington, DC., in the third floor auditorium. This meeting is sponsored by the FAA Office of Communications, Navigation, and Surveillance Systems.

Presentations will include an overview of the CPDLC project from government and industry representatives. These presentations will provide the aviation community with current information about the status of CPDLC. There will be a panel discussion in the afternoon and time will be allocated to questions, answers, and general discussions.

Attendance is open to the interested public but limited to space availability. With the approval of the Product Lead for Aeronautical Data Link, members of the public may present oral statements at the meeting. Persons wishing to present statements or obtain information should contact Mr. James H. Williams, FAA, at (202) 493-4693. Members of the public may present a written statement to the Product Lead at any time.

Issued in Washington, DC, on February 2, 2000.
Carl P. McCullough,
Director, Office of Communications, Navigation and Surveillance Systems.

[FR Doc. 00-3078 Filed 2-9-00; 8:45 am]

BILLING CODE 4910-13-M